NUCLEAR REGULATORY COMMISSION

Radionuclide Transport in the Environment: Draft Research Program Plan

AGENCY: Nuclear Regulatory Commission.

ACTION: Notice of availability and request for comments.

Background: The U.S. Nuclear Regulatory Commission's (NRC) Office of Nuclear Regulatory Research is preparing a research program plan on radionuclide transport in the environment and is seeking public comments on the plan. The radionuclide transport research program is intended to provide data and computational tools to assess the effect on public health and safety and the environment from nuclear materials that may enter the environment from NRC-licensed activities. The technical issues examined include source-term characterization; the effectiveness of engineered and natural containment systems surrounding the radioactive material; multi-phase flow of water, including episodic infiltration, into and through the environment; the transport of radioactive material through the geosphere; the transport of radioactive material through the biosphere; and estimating exposures of members of the public to radiation from these materials. Results from the radionuclide transport research program are intended to be generically applicable to NRC licensing activities including the decommissioning of facilities, disposal of uranium mill tailings, low-level radioactive waste disposal, and high-level radioactive waste disposal. This plan will present the basis for the radionuclide transport research program, describe the key elements of the program, describe how research priorities are set, and present a list of proposed research projects.

Solicitation of Comments: The NRC seeks comments on the plan and is especially interested in comments on the research topics proposed in Chapter 5. Suggestions for new research not specified in Chapter 5 are welcome.

Comment Period: The NRC will consider all written comments received before November 30, 2001. Comments received after November 30, 2001, will be considered if time permits. Comments should be addressed to the contact listed below.

Availability: An electronic version of the plan is available in Adobe Portable Document Format at http://www.nrc.gov/RES/nrc.html and can be read with Adobe Acrobat Reader software, available at no cost from http://www.adobe.com. Hard and electronic copies are available from the contact listed below.

CONTACT: Dr. John D. Randall, Mail Stop T9F31, US Nuclear Regulatory Commission, 11545 Rockville Pike, Rockville, MD 20852, telephone (301) 415-6192, e-mail jdr@nrc.gov.

Dated at Rockville, Maryland, this 9th day of October 2001.
For the Nuclear Regulatory Commission.
Cheryl A. Trottier,
Chief, Radiation Protection, Environmental Risk and Waste Management Branch, Division of Systems Analysis and Regulatory Effectiveness, Office of Nuclear Regulatory Research.

[FR Doc. 01-26280 Filed 10-17-01; 8:45 am]

BILLING CODE 7590-01-P